DEPARTMENT OF HOMELAND SECURITY

Federal Emergency Management Agency

44 CFR Part 67

[Docket No. FEMA-B-7778]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 5, 2008.

ADDRESSES: The corresponding preliminary Flood Insurance Rate Map (FIRM) for the proposed BFEs for each community are available for inspection at the community's map repository. The respective addresses are listed in the table below.

You may submit comments, identified by Docket No. FEMA-B-7778, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or.(e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Jackson County, North Carolina, and Incorporated Areas
Abbs Creek | At the confluence with Caney Fork | None | +2419 | Unincorporated Areas of Jackson County.
| Approximately 0.4 mile upstream of East Brasstown Road (State Road 1744) | None | +2688
Allens Branch | At the confluence with Scott Creek | None | +2074 | Unincorporated Areas of Jackson County, Town of Sylva.
| Approximately 1,500 feet upstream of East Nugget Lane | None | +2480
Barkers Creek | At the confluence with Tuckasegee River | None | +1899 | Unincorporated Areas of Jackson County.
| Approximately 350 feet upstream of West Barkers Creek Road (State Road 1392) | None | +2022
Big Witch Creek | At the confluence with Wrights Creek | None | +2438 | Eastern Band of Cherokee Indians.
| Approximately 1.6 miles upstream of the confluence with Wrights Creek | None | +3024
Blackrock Creek | At the confluence with Soco Creek | None | +2530 | Unincorporated Areas of Jackson County, Eastern Band of Cherokee Indians.
| Approximately 1.3 miles upstream of confluence with Soco Creek | None | +3052
Blanton Branch | At the confluence with Scott Creek | None | +2143 | Unincorporated Areas of Jackson County.
| Approximately 1,200 feet upstream of East Racking Cove (State Road 1775) | None | +2371
Brook Branch | At the confluence with Greens Creek | None | +2140 | Unincorporated Areas of Jackson County.
| Approximately 220 feet upstream of East Alpine Road | None | +2199
Brushy Fork | At the confluence with Greens Creek | None | +2261 | Unincorporated Areas of Jackson County.
| Approximately 20 feet upstream of West Brushy Fork Road (State Road 1371) | None | +2327
Buff Creek | At the confluence with Scott Creek | None | +2260 | Unincorporated Areas of Jackson County.
| Approximately 1,900 feet upstream of East Bamboo Trail | None | +2428
Bumgarner Branch | At the confluence with Mill Creek (into Tuckasegee River) | None | +2114 | Unincorporated Areas of Jackson County.
| Approximately 1,200 feet upstream of Big Orange Way | None | +2136
Camp Creek | At the confluence with Tuckasegee River | None | +1856 | Unincorporated Areas of Jackson County.
| Approximately 50 feet upstream of East Firefly Road (State Road 1408) | None | +2088
Cane Branch | At the confluence with Tuckasegee River | None | +1871 | Unincorporated Areas of Jackson County.
| Approximately 1,670 feet upstream of the confluence with Tuckasegee River | None | +1953
Cane Creek | Approximately 50 feet upstream of East Old Cullowhee Road (State Road 1002) | None | +2058 | Unincorporated Areas of Jackson County.
| Approximately 2,000 feet upstream of East Old Cullowhee Road (State Road 1002) | None | +2122
Caney Fork | Approximately 10 feet upstream of the confluence with Tuckasegee River | None | +2123 | Unincorporated Areas of Jackson County.
| Approximately 0.9 mile upstream of the confluence of Mull Creek | None | +2932
Cedar Creek | At the confluence with West Fork Tuckasegee River | None | +3499 | Unincorporated Areas of Jackson County.
| Approximately 1.1 miles upstream of East Receptive Drive | None | +3672
Chastine Creek | At the confluence with Cane Creek | None | +2550 | Unincorporated Areas of Jackson County.
| Approximately 2,000 feet upstream of East Caney Fork Road (State Road 1737) | None | +2824
Chattooga River | At the North Carolina/South Carolina State boundary | None | +2150 | Unincorporated Areas of Jackson County.
| Approximately 0.7 mile upstream of the confluence of Chattooga River Tributary 5 | None | +3399
Cope Creek | Approximately 80 feet upstream of confluence with Scott Creek | +2045 | +2046 | Unincorporated Areas of Jackson County, Town of Sylva.
| Approximately 50 feet upstream of East Claude Cook Road (State Road 1712) | None | +2396
Cox Branch | At the confluence with Cullowhee Creek | None | +2107 | Unincorporated Areas of Jackson County, Town of Forest Hills.
| Approximately 1,450 feet upstream of West Slate Mountain | None | +2204
Crooked Creek | At the confluence with Tuckasegee River | None | +1853 | Unincorporated Areas of Jackson County, Eastern Band of Cherokee Indians.
| Approximately 1,400 feet upstream of East Dynasty Drive | None | +1891
Cullowhee Creek | Approximately 400 feet upstream of West Camp Lab Road | None | +2096 | Unincorporated Areas of Jackson County.
| Approximately 300 feet upstream of West Ramp Cove Road | None | +2367
Cullowhee Creek Tributary 3 | At the confluence with Cullowhee Creek | None | +2137 | Unincorporated Areas of Jackson County.
| Approximately 110 feet upstream of West Parker Farm Road (State Road 1166) | None | +2170
Dark Ridge Creek | At the confluence with Scott Creek | None | +2632 | Unincorporated Areas of Jackson County.
| Approximately 0.5 mile upstream of the confluence with Scott Creek | None | +2686
Dicks Creek | At the confluence with Tuckasegee River | None | +1933 | Unincorporated Areas of Jackson County.
| Approximately 900 feet upstream of East Dicks Creek Road (State Road 1388) | None | +2216
Dills Branch | Approximately 90 feet upstream of U.S. Highway 23/74 | None | +2021 | Unincorporated Areas of Jackson County, Town of Sylva.
| Approximately 320 feet upstream of East Dills Cove Road (State Road 1380) | None | +2534
Dills Creek (into Fisher Creek) | At the confluence with Fisher Creek | None | +2396 | Unincorporated Areas of Jackson County.
| Approximately 650 feet upstream of West Dills Branch Road | None | +2821
East Fork Savannah Creek | At the confluence with Savannah Creek | None | +2175 | Unincorporated Areas of Jackson County.
| Approximately 1,700 feet upstream of West Chickadee Lane | None | +2342
Fisher Creek | At the confluence with Scott Creek | None | +2118 | Unincorporated Areas of Jackson County.
| Approximately 150 feet upstream of West Kellogg Lane | None | +2467
Flat Creek | At the confluence with Tuckasegee River | None | +2566 | Unincorporated Areas of Jackson County.
| Approximately 2.3 miles upstream of the confluence with Tuckasegee River | None | +3275
Fowler Creek | At the confluence with Chattooga River | None | +2706 | Unincorporated Areas of Jackson County.
| Approximately 1,430 feet upstream of West Chimney Top Trail | None | +3415
Gem Creek | At the confluence with Little Pine Creek | None | +3534 | Unincorporated Areas of Jackson County.
| Approximately 900 feet upstream of West Salt Rock Road (State Road 1160) | None | +3550
Gladie Creek | At the confluence with Tuckasegee River | None | +2566 | Unincorporated Areas of Jackson County.
| Approximately 1.3 miles upstream of the confluence with Tuckasegee River | None | +2644
Grassy Camp Creek | At the confluence with Norton Creek | None | +3632 | Unincorporated Areas of Jackson County.
| Approximately 800 feet upstream of Norton Road (State Road 1143) | None | +3678
Greenland Creek | At the confluence with Panthertown Creek and Tuckasegee River | None | +3654 | Unincorporated Areas of Jackson County.
| Approximately 1.2 miles upstream of the confluence with Panthertown Creek and Tuckasegee River | None | +3711
Greens Creek | At the confluence with Savannah Creek | None | +2119 | Unincorporated Areas of Jackson County.
| Approxmimately 1,060 feet upstream of West Sugar Fork Road (State Road 1370) | None | +2417
Hornbuckle Creek | At the confluence with Soco Creek | None | +2776 | Unincorporated Areas of Jackson County, Eastern Band of Cherokee Indians.
| Approximately 0.9 mile upstream of the confluence with Soco Creek | None | +3042
Horsepasture River | At the Jackson/Transylvania County boundary | None | +2973 | Unincorporated Areas of Jackson County.
| Approximately 0.4 mile upstream of U.S. 64 Highway | None | +3208
Horsepasture River Tributary 4 | At the confluence with Horsepasture River | None | +3141 | Unincorporated Areas of Jackson County.
| Approximately 1,400 feet upstream of the confluence with Horsepasture River | None | +3147
Hurricane Creek | At the confluence with West Fork Tuckasegee River | None | +3499 | Unincorporated Areas of Jackson County.
| Approximately 0.8 mile upstream of North Norton Road (State Road 1145) | None | +3635
Jacks Creek | At the confluence with Tuckasegee River | None | +1884 | Unincorporated Areas of Jackson County.
| Approximately 700 feet upstream of U.S. Highway 74 | None | +1935
Johns Creek | At the confluence with Caney Fork | None | +2292 | Unincorporated Areas of Jackson County.
| Approximately 1,800 feet upstream of East Nicholson Cove Road (State Road 1748) | None | +2479
Kitchen Branch | At the confluence with Scott Creek | None | +2105 | Unincorporated Areas of Jackson County.
| Approximately 1,350 feet upstream of East Kitchen Branch Road (State Road 1442) | None | +2714
Knob Creek | At the confluence with Norton Creek | None | +3578 | Unincorporated Areas of Jackson County.
| Approximately 1,350 feet upstream of Flintlock Road | None | +3985
Laurel Branch | At the confluence with Tuckasegee River | None | +1918 | Unincorporated Areas of Jackson County.
| Approximately 1,600 feet upstream of Cowee Tunnel Road | None | +2119
Little Pine Creek | At the confluence with Pine Creek | None | +3532 | Unincorporated Areas of Jackson County.
| Approximately 180 feet upstream of West Salt Rock Road (State Road 1160) | None | +3582
Little Savannah Creek | At the confluence with Savannah Creek | None | +2028 | Unincorporated Areas of Jackson County.
| Approximately 800 feet upstream of East Little Savannah Road (State Road 1367) | None | +2190
Locust Creek | Approximately 500 feet upstream of the confluence with Tuckasegee River | +2042 | +2043 | Unincorporated Areas of Jackson County.
| Approximately 0.5 mile upstream of West Match Point | None | +2314
Logan Creek | At the confluence with Horsepasture River | None | +3158 | Unincorporated Areas of Jackson County.
| Approximately 0.6 mile upstream of U.S. 64 Highway | None | +3170
Long Branch | Approximately 950 feet upstream of East Little Savannah Road (State Road 1367) | None | +2235 | Unincorporated Areas of Jackson County.
| Approximately 1,650 feet upstream of East Little Savannah Road (State Road 1367) | None | +2262
Long Branch (into Horsepasture River) | At the confluence with Horsepasture River | None | +3128 | Unincorporated Areas of Jackson County.
| Approximately 980 feet upstream of U.S. Highway 64 | None | +3134
Mill Creek | At the confluence with West Fork Tuckasegee River | None | +3499 | Unincorporated Areas of Jackson County.
| Approximately 940 feet upstream of Sunbird Lane | None | +3780
Mill Creek (into Tuckasegee River) | At the confluence with Tuckasegee River | None | +2026 | Unincorporated Areas of Jackson County, Town of Sylva, Town of Webster.
| Approximately 150 feet upstream of the confluence of Bumgarner Branch | None | +2114
Monteith Branch | At the confluence with Scott Creek | None | +2114 | Unincorporated Areas of Jackson County.
| Approximately 1,010 feet upstream of West Razorback Trail | None | +3118
Moses Creek | At the confluence with Caney Fork | None | +2198 | Unincorporated Areas of Jackson County.
| Approximately 30 feet upstream of East Moses Creek Road | None | +2371
Mull Creek | At the confluence with Caney Fork | None | +2709 | Unincorporated Areas of Jackson County.
| Approximately 0.5 mile upstream of East Caney Fork Road (State Road 1737) | None | +2845
Nations Creek | At the confluence with Tuckasegee River | None | +1869 | Unincorporated Areas of Jackson County.
| Approximately 0.9 mile upstream of confluence with Tuckasegee River | None | +2011
Norton Creek | At the confluence with West Fork Tuckasegee River | None | +3499 | Unincorporated Areas of Jackson County.
| Approximately 600 feet upstream of Jodytown Road (State Road 1150) | None | +3677
Norton Mill Creek | At the confluence with Chattooga River | None | +2566 | Unincorporated Areas of Jackson County.
| Approximately 0.6 mile upstream of West Whiteside Cove Road (State Road 1107) | None | +2767
Ochre Hill Creek | At the confluence with Scott Creek | None | +2227 | Unincorporated Areas of Jackson County.
| Approximately 1,520 feet upstream of the confluence with Scott Creek | None | +2271
Panthertown Creek | At the confluence with Greenland Creek and Tuckasegee River | None | +3654 | Unincorporated Areas of Jackson County.
| Approximately 0.7 mile upstream of the confluence of Panthertown Creek Tributary 1 | None | +3702
Panthertown Creek Tributary 1 | At the confluence with Panthertown Creek | None | +3662 | Unincorporated Areas of Jackson County.
| Approximately 1,540 feet upstream of the confluence with Panthertown Creek | None | +3674
Peewee Branch | At the confluence with Greens Creek | None | +2332 | Unincorporated Areas of Jackson County.
| Approximately 685 feet upstream of the confluence with Greens Creek | None | +2357
Pine Creek | At the confluence with West Fork Tuckasegee River | None | +3499 | Unincorporated Areas of Jackson County.
| Approximately 0.6 mile upstream of West Pine Creek Road (State Road 1163) | None | +3568
Pressley Creek | At the confluence with Tilley Creek | None | +2186 | Unincorporated Areas of Jackson County.
| Approximately 800 feet upstream of the confluence with Tilley Creek | None | +2204
Savannah Creek | At the confluence with Tuckasegee River | None | +2004 | Unincorporated Areas of Jackson County.
| Approximately 0.4 mile upstream of the confluence of Shell Branch | None | +3081
Scott Creek | At the confluence with Tuckasegee River | None | +1974 | Unincorporated Areas of Jackson County, Town of Dillsboro, Town of Sylva.
| Approximately 350 feet upstream of U.S. 74/23 Highway | None | +3164
Scott Creek Tributary 13 | At the confluence with Scott Creek | None | +2127 | Unincorporated Areas of Jackson County.
| Approximately 850 feet upstream of East Skyland Drive (State Road 1432) | None | +2160
Shoal Creek | At the confluence with Soco Creek | +1941 | +1943 | Unincorporated Areas of Jackson County.
| Approximately 1.4 miles upstream of East Olivet Church Road (State Road 1424) | None | +2052
Silver Run Creek | At the confluence with Whitewater River | None | +3303 | Unincorporated Areas of Jackson County.
| Approximately 0.9 mile upstream of East Moody Road (State Road 1106) | None | +3465
Slickens Creek | At the confluence with Tuckasegee River | None | +2893 | Unincorporated Areas of Jackson County.
| Approximately 1,300 feet upstream of the confluence with Tuckasegee River | None | +3181
Soapstone Creek | At the confluence with Scott Creek | None | +2541 | Unincorporated Areas of Jackson County.
| Approximately 580 feet upstream of East Cripple Creek (State Road 1708) | None | +2627
Soco Creek | Approximately 1,100 feet downstream of U.S. Highway 441 | +1935 | +1936 | Unincorporated Areas of Jackson County, Eastern Band of Cherokee Indians.
| Approximately 350 feet upstream of the confluence of Hornbuckle Creek | None | +2808
Sugar Fork | At the confluence with Greens Creek | None | +2359 | Unincorporated Areas of Jackson County.
| Approximately 800 feet upstream of the confluence with Greens Creek | None | +2400
Sutton Branch | At the confluence with Savannah Creek | None | +2098 | Unincorporated Areas of Jackson County.
| Approximately 0.6 mile upstream of U.S. 23/441 Highway | None | +2196
Tanasee River | At the confluence with Tuckasegee River | None | +3078 | Unincorporated Areas of Jackson County.
| Approximately 0.4 mile upstream of East Tannassee Creek Road (State Road 1262) | None | +3157
Tatham Creek | At the confluence with Savannah Creek | None | +2241 | Unincorporated Areas of Jackson County.
| Approximately 1,400 feet upstream of the confluence with Savannah Creek | None | +2289
Tilley Creek | At the confluence with Cullowhee Creek | None | +2150 | Unincorporated Areas of Jackson County.
| Approximately 0.6 mile upstream of West Tilley Creek Road (State Road 1001) | None | +2424
Trout Creek | At the confluence with West Fork Tuckasegee River | None | +2439 | Unincorporated Areas of Jackson County.
| Approximately 0.4 mile upstream of East Trout Creek Road (State Road 1131) | None | +2771
Tuckasegee River | Approximately 150 feet downstream of the Jackson/Swain County boundary | None | +1835 | Unincorporated Areas of Jackson County.
| The confluence of Greenland Creek and Panthertown Creek | None | +3654
Tuckasegee River Tributary 13 | At the confluence with Tuckasegee River | None | +1849 | Unincorporated Areas of Jackson County.
| Approximately 500 feet upstream of West Thomas Cove Road | None | +1881
Tuckasegee River Tributary 42 | At the confluence with Tucksegee River | None | +2129 | Unincorporated Areas of Jackson County.
| Approximately 930 feet upstream of the confluence with Tuckasegee River | None | +2132
Wayehutta Creek | Approximately 500 feet upstream of the confluence with Tuckasegee River | +2079 | +2080 | Unincorporated Areas of Jackson County.
| Approximately 1,260 feet upstream of East Wayehutta Road (State Road 1731) | +2079 | +2096
West Fork Tuckasegee River | At the confluence with Tuckasegee River | None | +2149 | Unincorporated Areas of Jackson County.
| At the confluence of Hurricane Creek | None | +3499
Whitewater River | At the North Carolina/South Carolina State boundary | None | +1961 | Unincorporated Areas of Jackson County.
| Approximately 550 feet upstream of confluence of Silver Run Creek | None | +3308
Wolf Creek | At the confluence with Tuckasegee River | None | +2571 | Unincorporated Areas of Jackson County.
| Approximately 2.3 miles upstream of West Canada Road | None | +3108
Wrights Creek | Approximately 500 feet upstream of the confluence with Soco Creek | +2054 | +2055 | Eastern Band of Cherokee Indians.
| Approximately 0.9 mile upstream of the confluence of Big Witch Creek | None | +2708
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Eastern Band of Cherokee Indians
Maps are available for inspection at Ginger Lynn Welch Complex, 810 Aquoni Road, Cherokee, NC.
Town of Dillsboro
Maps are available for inspection at Dillsboro Town Office, 42 Front Street, Dillsboro, NC.
Town of Forest Hills
Maps are available for inspection at Jackson County Inspections Department, 401 Grindstaff Cove Road, Suite 105, Sylva, NC.
Town of Sylva
Maps are available for inspection at Sylva Town Hall, 83 Allen Street, Sylva, NC.
Town of Webster
Maps are available for inspection at Jackson County Inspections Department, 401 Grindstaff Cove Road, Suite 105, Sylva, NC.
Unincorporated Areas of Jackson County
Maps are available for inspection at Jackson County Inspections Department, 401 Grindstaff Cove Road, Suite 105, Sylva, NC.
Jackson County, Ohio, and Incorporated Areas
North Pigeon Creek | Approximately 800 feet downstream of Chessie System Railroad | None | +630 | Unincorporated Areas of Jackson County.
| Approximately 580 feet upstream of County Highway 31 | None | +641
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Jackson County
Maps are available for inspection at GIS Office, 237 E. Main Street, Jackson, OH 45640.
Rusk County, Wisconsin, and Incorporated Areas
Chippewa River | At County Boundary with Chippewa County | +1045 | +1046 | Unincorporated Areas of Rusk County.
| Approximately 7.5 miles upstream of County Highway E | None | +1065
Flambeau River | At its confluence with Chippewa River | +1056 | +1054 | Unincorporated Areas of Rusk County, City of Ladysmith.
| Approximately 1.5 miles upstream of U.S. Highway 8 | +1117 | +1120
Flambeau River | At Dairyland Reservoir | None | +1184 | Unincorporated Areas of Rusk County.
| At Big Falls Dam | None | +1190
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Ladysmith
Maps are available for inspection at City Hall, 120 Miner Avenue West, Ladysmith, WI 54848.
Unincorporated Areas of Rusk County
Maps are available for inspection at Rusk County Courthouse, 311 East Miner Avenue, Ladysmith, WI 54848.

(Catalog of Federal Domestic Assistance No. 97.022, “Flood Insurance.”)

Dated: April 29, 2008.
David I. Maurstad,
Federal Insurance Administrator of the National Flood Insurance Program, Department of Homeland Security, Federal Emergency Management Agency.

[FR Doc. E8-10152 Filed 5-6-08; 8:45 am]

BILLING CODE 9110-12-P